DEPARTMENT OF THE INTERIOR

Bureau of Ocean Energy Management

30 CFR Parts 550, 556, and 590

[Docket No. BOEM-2023-0027]

RIN 1010-AE14

Risk Management and Financial Assurance for OCS Lease and Grant Obligations; Extension of Public Comment Period

AGENCY: Bureau of Ocean Energy Management, Interior.

ACTION: Notice of proposed rulemaking; extension of public comment period.

SUMMARY: The Bureau of Ocean Energy Management (BOEM) is extending the public comment period on our notice of proposed rulemaking (NPRM), “Risk Management and Financial Assurance for Outer Continental Shelf Lease and Grant Obligations,” by 10 days. Comments previously submitted do not need to be resubmitted and will be fully considered.

DATES: The comment period for the proposed rule “Risk Management and Financial Assurance for Outer Continental Shelf [OCS] Lease and Grant Obligations,” which was published on June 29, 2023, at 88 FR 42136, is extended by 10 days. Online comments submitted at https://www.regulations.gov must be uploaded by 11:59 p.m. eastern daylight time on September 7, 2023. Hardcopy comments submitted by a parcel delivery service must be received by BOEM or postmarked on or before September 7, 2023.

ADDRESSES: The publicly available documents relevant to this action are available for public inspection electronically at https://www.regulations.gov in Docket No. BOEM-2023-0027.

Submitting Comments. You may send comments regarding the substance of this proposed rule, identified by Docket No. BOEM-2023-0027 or regulation identifier number (RIN) 1010-AE14, using any of the following methods:

• Federal e-rulemaking portal: https://www.regulations.gov. Search for and submit comments on Docket No. BOEM-2023-0027.

• U.S. Postal Service or other parcel delivery service: Address comments to the Office of Regulations, Bureau of Ocean Energy Management, Department of the Interior, Attention: Kelley Spence, 45600 Woodland Road, Mailstop: DIR-BOEM, Sterling, VA 20166.

Instructions: All comments submitted regarding this proposed rule should reference Docket No. BOEM-2023-0027 or RIN 1010-AE14. All comments received by BOEM will be reviewed and may be posted to https://www.regulations.gov, including any personal information provided with the submission. For further instructions on protecting personally identifiable information, see “Public Availability of Comments” under SUPPLEMENTARY INFORMATION.

FOR FURTHER INFORMATION CONTACT: Kelley Spence, Office of Regulations, BOEM, at telephone number 984-298-7345 or email address Kelley.Spence@boem.gov; or Karen Thundiyil, Chief, Office of Regulations, BOEM, at telephone number 202-742-0970 or email address Karen.Thundiyil@boem.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On June 29, 2023, BOEM published the proposed rule “Risk Management and Financial Assurance for [OCS] Lease and Grant Obligations.” 88 FR 42136. That proposed rule would modify the criteria for determining whether oil, gas, and sulfur lessees, right-of-use and easement (RUE) grant holders, and pipeline right-of-way grant holders may be required to provide financial assurance above the current regulatorily prescribed base financial assurance to ensure compliance with their Outer Continental Shelf Lands Act obligations. This proposed rule would also remove existing restrictive provisions for third-party guarantees and decommissioning accounts and would add new criteria under which a bond or third-party guarantee that was provided as supplemental financial assurance may be canceled. Additionally, this proposed rule would clarify financial assurance requirements for RUEs serving Federal leases. With this notice, we are extending the public comment period on the NPRM from August 28, 2023, to September 7, 2023.

Public Availability of Comments

You may submit your comments and materials by one of the methods listed in the ADDRESSES section of this notice. Before including your name, return address, phone number, email address, or other personally identifiable information in your comment, you should be aware that your entire comment—including your personally identifiable information—may be made publicly available. In order for BOEM to withhold from disclosure your personally identifiable information, you must identify, in a cover letter, any information contained in the submittal of your comments that, if released, would constitute a clearly unwarranted invasion of your personal privacy. You must also briefly describe in such cover letter any possible harmful consequences of the disclosure of information, such as embarrassment, injury, or other harm. While you can ask us in your comment to withhold your personally identifiable information from public review, we cannot guarantee that we will be able to do so. Even if BOEM withholds your information in the context of this rulemaking, your submission is subject to the Freedom of Information Act (FOIA) and any relevant court orders. If your submission is requested under the FOIA or such court order, your information will only be withheld if a determination is made that one of the FOIA's exemptions to disclosure applies or if such court order is challenged. Such a determination will be made in accordance with the Department's FOIA regulations and applicable law.

Elizabeth Klein,
Director, Bureau of Ocean Energy Management.

[FR Doc. 2023-18370 Filed 8-24-23; 8:45 am]

BILLING CODE 4310-MR-P